DEPARTMENT OF THE INTERIOR

Bureau of Land Management

43 CFR PART 3800

[WO-300-1990-PB-24 1A]

RIN 1004-AD44

Mining Claims Under the General Mining Laws; Final Rule; Correction

AGENCY: Bureau of Land Management, Interior.

ACTION: Correcting amendment.

SUMMARY: This document contains a correction to the regulations for mining claims under the General Mining Laws published in the Federal Register on November 21, 2000 (65 FR 69998).

DATE: Effective on January 20, 2001.

FOR FURTHER INFORMATION CONTACT: You may contact Michael Schwartz on (202) 452-5198. Individuals who use a telecommunications device for the deaf (TDD) may contact Mr. Schwartz through the Federal Information Relay Service on 1-800-877-8339, 24 hours a day, 7 days a week.

SUPPLEMENTARY INFORMATION:

Need for Correction

The regulations as published contain a nonexistent cross reference section which may confuse or mislead the public.

In § 3809.202(d), we have a cross reference to a nonexistent § 3809.800(c) which could mislead or confuse the public. Therefore, we are changing the cross reference from § 3809.800(c) to § 3809.802.

List of Subjects in 43 CFR Part 3800

Administrative practice and procedure, Environmental protection, Intergovernmental relations, Land Management Bureau, Mines, Public Lands-mineral resources, Reporting and recordkeeping requirements, Surety bonds, Wilderness areas.

Dated: May 21, 2003.
Rebecca W. Watson,
Assistant Secretary, Land and Minerals Management.

Accordingly, 43 CFR part 3800 is corrected by making the following correcting amendment:

PART 3800—MINING CLAIMS UNDER THE GENERAL MINING LAWS

1. The authority citation for part 3800 continues to read as follows:

Authority: 5 U.S.C. 552; 16 U.S.C. 1131-1136, 1271-1287, 1901; 25 U.S.C. 463; 30 U.S.C. 21 et seq., 21A, 22 et seq., 36, 621 et seq., 1601; 43 U.S.C. 2, 154, 299, 687b-687b-4, 1068 et seq., 1201, 1701 et seq.; 62 Stat. 162.

2. Revise § 3809.202(d) to read as follows:

§ 3809.202 Under what conditions will BLM defer to State regulation of operations?

* * * * *

(d) Appeal of State Director decision. The BLM State Director's decision will be a final decision of BLM and may be appealed to the Assistant Secretary for Land and Minerals Management, but not to the Department of the Interior Office of Hearings and Appeals. The items you should include in the appeal are the same as the items you must include under § 3809.802.

[FR Doc. 03-13677 Filed 5-30-03; 8:45 am]

BILLING CODE 4310-84-P